DEPARTMENT OF HEALTH & HUMAN SERVICES

Health Resources and Services Administration

Bright Futures Pediatric Implementation Cooperative Agreement

AGENCY: Health Resources and Services Administration (HRSA), Department of Health and Human Services (HHS).

ACTION: Notice of Single-Case Deviation from Competition Requirement for Program Expansion for the Bright Futures Pediatric Implementation Cooperative Agreement at the American Academy of Pediatrics, Grant Number U04MC07853.

SUMMARY: HRSA announces the award of a program expansion supplement in the amount of $210,000 for the Bright Futures Pediatric Implementation (BFPI) cooperative agreement. The proposed program expansion supplement would provide funds to the American Academy of Pediatrics (AAP) to support the integration of genetics and genomic medicine into pediatric primary care by testing genomic resources and tools to ensure relevance to clinical practice and the practicality of implementing them in clinical practice and the eventual addition to the Bright Futures Tool and Resources Kit.

The BFPI is authorized by the Social Security Act, Title V, Sections 501(a)(2) (42 U.S.C. 701(a)(2)), as amended. The BFPI is a national resource to promote integration of the “Bright Futures Guidelines for Health Supervision of Infants, Children and Adolescents, Third Edition” and subsequent editions, through strengthening, aligning, and fostering partnerships among families, health professionals, public health, and the broader community to promote children's health.

SUPPLEMENTARY INFORMATION: Intended Recipient of the Award: The American Academy of Pediatrics

Amount of the Non-Competitive Award: $210,000.

CFDA Number: 93.110.

Current Project Period: 02/01/2007—01/31/2017.

Period of Supplemental Funding: 2/1/2015—1/31/2016.

Authority: Social Security Act, Title V, Sections 501(a)(2) (42 U.S.C. 701(a)(2)), as amended.

Justification: Genetic information may be used to diagnose disease, predict risk of future disease, inform decision-making, and manage patient care. Although the number of evidence-based genomic applications relevant to pediatric practice is growing, lack of awareness and genetics-related skills among providers often results in significant lag time between the generation of evidenced-based findings and their integration into pediatric practice.

From June 1, 2011, to January 30, 2014, HRSA's Maternal and Child Health Bureau (MCHB) funded AAP to develop and implement the Genetics in Primary Care Institute (GPCI) program that provided models, best practices, and dissemination strategies for ensuring optimal integration of genetic medicine content and concepts into primary care practice.

Bright Futures Guidelines for Health Supervision of Infants, Children and Adolescents, Third Edition (hereafter referred to as Bright Futures), is a set of principles, strategies and tools that are theory-based, evidence-driven, and systems-oriented, that can be used to improve the health and well-being of all children. Bright Futures has become the primary source of clinical guidelines and recommendations to improve health promotion and preventive practices for infants, children, and adolescents, including those with special healthcare needs, among pediatric health care providers. Bright Futures is an ideal platform for the GPCI tools to integrate the genetic guidelines into clinical practice and the addition of genomic tools and resources will strengthen and enhance the work of Bright Futures.

The purpose of the BFPI cooperative agreement, as stated in the funding opportunity announcement, is to improve the quality of health promotion and preventive services for all infants, children, adolescents, and their families, including children with special health care needs, through the effective national implementation of Bright Futures. To address the need for the integration of genetics and genomic medicine into pediatric primary care, AAP, working with MCHB, would support the development of the Think Genetics! Initiative using the GPCI tool, “Think Genetics! Daily Use in Pediatric Primary Care: A Case Series for the Continuity Clinic.” This tool focuses on a wide range of clinical topics that are encountered in pediatric primary care and that require the primary care provider to “think genetically” in order to think more broadly about genetics/genomics when seeing patients in the clinic. The supplemental funds would allow MCHB to build on AAP's GPCI outputs, strong relationship with the pediatric primary care providers, and Bright Futures platform to help MCHB facilitate the integration of genetic guidelines into clinical practice.

As part of the current award, BFPI would recommend updates to Bright Futures based upon information from the GPCI to promote the importance of collecting a multigenerational family health history, as well as the collection of targeted, just-in-time family history information. As part of this project, AAP would engage five clinics in testing and revise several modules from the genetics case series to better understand what supports clinic directors, attending physicians, and residents need to implement the provision of genetics and genomic medicine in patient visits. In addition, AAP would compare the case series content with Bright Futures to determine content alignment as well as gaps.

AAP would partner with residency training programs, the Bright Futures Steering Committee, the Association of Pediatric Program Directors, and others, respectively, to ensure the development of a sound project implementation methodology consistent with the overall aims. Resources and tools would be developed and/or refined based on results. Further, AAP would plan for the resulting tools and resources to be integrated into the Bright Futures Tool and Resource Kit (Bright Futures toolkit) or other anticipatory guidance resource materials (e.g., tip sheets, communication tools, and parent education materials). The information obtained from these activities will inform MCHB's understanding of additional strategies needed to implement genomics into clinical practice.

FOR FURTHER INFORMATION CONTACT: Lynn Van Pelt, DMD, Division of Child, Adolescent, and Family Health, Maternal and Child Health Bureau, Health Resources and Services Administration, 5600 Fishers Lane, Room 18W13B, Rockville, Maryland 20857; lvanpelt@hrsa.gov.

Grantee/organization name | Grant number | State | Fiscal year 2015 authorized funding level | Fiscal year 2015 estimated supplemental funding
The American Academy of Pediatrics | U04MC07853 | IL | $1,176,800 | $210,000

Dated: September 21, 2015.
James Macrae,
Acting Administrator.

[FR Doc. 2015-24393 Filed 9-24-15; 8:45 am]

BILLING CODE 4165-15-P